ENVIRONMENTAL PROTECTION AGENCY

[FRL-7456-2]

Notice of Extension of Due Date for Proposals for the National Environmental Information Exchange Network (Network) Grant Program

AGENCY: Environmental Protection Agency.

ACTION: Notice of extension of due date for proposals.

SUMMARY: The due date for proposals for the Network Grant Program has been extended to March 18, 2003. Proposals must be submitted by mail or courier to U.S. EPA Headquarters, Office of Information Collection, ATTN: Lyn Burger, EPA West, Mail Code 2821T, 1200 Pennsylvania Avenue, NW., Washington, DC 20460 and electronically by email: neenprg@epamail.epa.gov on or before March 18, 2003.

Funding Vehicle Preference: The grant proposal should indicate whether the applicant prefers receiving grant funds as part of an existing Performance Partnership Grant (PPG), or as a separate grant. If the grant recipient chooses to add funds to an existing PPG, the Network grant work plan commitments must also be included in the PPG work plan negotiated with EPA HQ and Regions.

FOR FURTHER INFORMATION CONTACT: Lyn Burger, U.S. EPA, Office of Information Collection, Mail Code 2821T, 1200 Pennsylvania Avenue, NW., Washington, DC 20460; Phone (202) 566-1024; E-mail at neengprg@epamail.epa.gov. For additional information, please visit the Network Grant website at www.epa.gov/neengprg.

Dated: February 21, 2003.
Kimberly T. Nelson,
Assistant Administrator and Chief Information Officer, Office of Environmental Information.

[FR Doc. 03-4771 Filed 2-27-03; 8:45 am]

BILLING CODE 6560-50-P